ENVIRONMENTAL PROTECTION AGENCY

[FRL-7606-5; OAR-2003-0049]

Agency Information Collection Activities; Submission to OMB for Review and Approval; Comment Request; Transportation Conformity Determinations for Federally Funded and Approved Transportation Plans, Programs and Projects Under the New 8-hour Ozone and PM2.5 National Ambient Air Quality Standards, EPA ICR Number 2130.01

AGENCY: Environmental Protection Agency (EPA).

ACTION: Notice of request for comments.

SUMMARY: In compliance with the Paperwork Reduction Act (44 U.S.C. 3501 et seq.), this document announces that EPA has submitted a proposed Information Collection Request (ICR) to the Office of Management and Budget (OMB) for review and approval. This is a request for new information collection requirements in EPA's proposed rule regarding conformity requirements for areas designated nonattainment under the new 8-hour ozone and PM2.5 national ambient air quality standards. This ICR describes the nature of the information collection and its estimated burden and cost. EPA is soliciting comments on specific aspects of the proposed information collection as described below.

DATES: Comments must be submitted on or before March 5, 2004.

ADDRESSES: Submit your comments, referencing docket ID number OAR-2003-0049, to (1) EPA online using EDOCKET (our preferred method), by email to a-and-r-Docket@epa.gov, Attention Air Docket ID No. OAR-2003-0049, or by mail to: Air Docket, Environmental Protection Agency, Mailcode: 6102T, 1200 Pennsylvania Ave., NW., Washington, DC 20460, Attention Docket ID No. OAR-2003-0049, and (2) OMB at: Office of Information and Regulatory Affairs, Office of Management and Budget (OMB), 725 17th Street, NW., Washington, DC 20503, Attention: Desk Officer for EPA.

FOR FURTHER INFORMATION CONTACT: Meg Patulski, State Measures and Conformity Group, Transportation and Regional Programs Division, U.S. Environmental Protection Agency, 2000 Traverwood Road, Ann Arbor, MI 48105; telephone number: (734) 214-4842; fax number: (734) 214-4052; email address: patulski.meg@epa.gov.

SUPPLEMENTARY INFORMATION: EPA has established a public docket for the proposed rule regarding conformity requirements for areas designated nonattainment under the new 8-hour ozone and PM2.5 national ambient air quality standards (November 5, 2003, 68 FR 62690), which includes ICR 2130.01, under Docket ID No. OAR-2003-0049. Interested parties can obtain a copy of the ICR 2130.01 Supporting Statement in Docket ID No. OAR-2003-0049, and submit comments during the public comment period for today's notice. The Supporting Statement includes further information regarding the how EPA derived the burden and cost estimates described below.

The docket is available for public viewing at the Air Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air Docket is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Transportation Conformity Determinations for Federally Funded and Approved Transportation Plans, Programs and Projects Under the New 8-hour Ozone and PM2.5 National Ambient Air Quality Standards, EPA ICR Number 2130.01.

Abstract: Transportation conformity determinations are required under Clean Air Act section 176(c) (42 U.S.C. 7506(c)) to ensure that federally supported transportation activities are consistent with (“conform to”) the purpose of the state air quality implementation plan (SIP). Conformity to the purpose of the SIP means that transportation activities will not cause new air quality violations, worsen existing violations, or delay timely attainment of the relevant air quality standards. Transportation conformity applies under EPA's conformity regulations at 40 CFR part 93, subpart A, to areas that are designated nonattainment and those redesignated to attainment after 1990 (“maintenance areas” with plans developed under Clean Air Act section 175A) for transportation-related criteria pollutants. The Clean Air Act gives EPA the statutory authority to establish the criteria and procedures for determining whether transportation activities conform to the SIP.

On November 5, 2003, EPA proposed conformity requirements for areas designated nonattainment under the new 8-hour ozone and PM2.5 national ambient air quality standards (NAAQS or “standards''; 68 FR 62690). EPA has submitted this ICR to address the additional burden associated with making conformity determinations for the new standards over the first three years after nonattainment designations. The final rule will respond to any OMB or public comments on the information collection requirements contained in this proposal. Specifically, the ICR includes additional burden estimates for conducting conformity determinations on transportation plans, transportation improvements programs (TIPS) and projects in the following types of metropolitan and isolated rural areas:

• Brand new nonattainment areas that have never demonstrated conformity for any pollutant and standard;

• Existing nonattainment and maintenance areas with previous conformity experience that will be demonstrating conformity for an additional pollutant (e.g., existing areas that will be doing conformity for PM2.5, a new pollutant not previously covered by the rule); and

• New nonattainment counties that may be added to some existing 1-hour ozone areas that expand under the 8-hour ozone standard.

The information collection requirements of EPA's existing transportation conformity rule are covered under the Department of Transportation's (DOT's) ICR entitled, “Metropolitan and Statewide Transportation Planning,” with the OMB Control Number 2132-0529. The DOT ICR accounts for conformity burden in 1-hour ozone, CO, PM10, and NO2 nonattainment and maintenance areas. EPA's ICR includes only the incremental burden associated with making conformity determinations for the new standards, including start-up costs that areas will incur in the first three years after nonattainment designations (e.g., rule familiarization and conformity training in brand new areas). This ICR does not address the development of transportation plans and TIPs or motor vehicle emissions budgets, since these documents are developed to meet other requirements.

An agency may not conduct or sponsor, and a person is not required to respond to, a collection of information unless it displays a currently valid OMB control number. The OMB control numbers for EPA's regulations in 40 CFR are listed in 40 CFR part 9 and are identified on the form and/or instrument, if applicable.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The ICR estimates the annual state and local burden for conformity activities in each metropolitan nonattainment area that incurs additional burden under the new ozone and PM2.5 standards to be 325 hours/year at a cost of $16,320/year. Additional federal burden associated with conformity for each of these metropolitan nonattainment areas is approximately 127 hours/year at a cost of $6,400/year. Average State and local burden associated with conformity for each isolated rural nonattainment area that incurs new burden under the new standards is 42 hours/year at a cost of $2,111/year. New federal burden associated with each of these areas is calculated to be 10 hours/year at a cost of $503/year.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State and local entities affected by this ICR include metropolitan planning organizations, local transit agencies, State departments of transportation, and State and local air quality agencies. Federal agencies affected by this ICR include the Federal Highway Administration (FHWA), Federal Transit Administration (FTA), and EPA.

Estimated Number of Respondents: This ICR estimates that approximately 86 metropolitan and isolated rural areas designated nonattainment for one or both of the new 8-hour ozone and PM2.5 standards will incur additional burden.

Frequency of Response: The information collections described in this ICR must be completed before a transportation plan, TIP or project conformity determination is made. Transportation plans must be found to conform at least every three years. TEA-21 and DOT's planning regulations require that TIPs be updated at least every two years, therefore, a conformity determination on the TIP in metropolitan areas is required at least every two years. Conformity determinations on projects in metropolitan and isolated rural areas are required on an as needed basis. This ICR assumes that areas with additional burden will complete approximately 1,510 total plan, TIP and project-level conformity determinations every year.

Estimated Total Annual Hour Burden: The ICR estimates a total annual burden to all Federal, State and local agency respondents over the 3-year period covered by this ICR to be 35,683 hours. Total annual burden for State and local agencies alone is 25,669, while the total annual burden for Federal agency respondents is 10,014 hours.

Estimated Total Annual Cost: The total annual cost to all Federal, State and local agency respondents over the 3-year period covered by this ICR is estimated to be approximately $1,793,072. The annual cost for all State and local agencies is $1,289,869, while the annual cost portion for Federal agency respondents is $503,203.

Changes in the Estimates: Not applicable. This is a new ICR submission, rather than a change to an existing EPA ICR.

Dated: December 23, 2003.
Leila Cook,
Acting Director, Transportation and Regional Programs Division, Office of Transportation and Air Quality.

[FR Doc. 04-12 Filed 1-2-04; 8:45 am]

BILLING CODE 6560-50-P